DEPARTMENT OF ENERGY

Federal Energy Regulatory Commission

[Docket No. RP02-361-006]

Gulfstream Natural Gas System, L.L.C.; Notice of Compliance Filing

April 2, 2003.

Take notice that on March 28, 2003, Gulfstream Natural Gas System, L.L.C. (Gulfstream) tendered for filing a settlement agreement, pursuant to which Gulfstream and Florida Power Corporation (FPC) have agreed to execute various transportation agreements and negotiated rate agreements.

Gulfstream states that the purpose of this filing is to comply with the order issued by the Commission on July 3, 2002, in Docket Nos. RP02-361-000, et al. (July 3 Order). Gulfstream states that the July 3 Order rejected various provisions contained in its original agreements with FPC and directed Gulfstream to file revised agreements with FPC that eliminated such rejected provisions or modified the provisions in accordance with the order. Gulfstream states that the instant filing complies with the directives of the July 3 Order.

Gulfstream states that copies of its filing have been mailed to all parties listed on the Official Service List compiled by the Secretary of the Commission in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 9, 2003.

Magalie R. Salas,
Secretary.

[FR Doc. 03-8475 Filed 4-7-03; 8:45 am]

BILLING CODE 6717-01-P